DEPARTMENT OF VETERANS AFFAIRS

[OMB Control No. 2900-0092]

Agency Information Collection Activity Under OMB Review: Information for Veteran Readiness and Employment Entitlement Determination

AGENCY: Veterans Benefits Administration, Department of Veterans Affairs.

ACTION: Notice.

SUMMARY: In compliance with the Paperwork Reduction Act (PRA) of 1995, this notice announces that the Veterans Benefit Administration, Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link https://www.reginfo.gov/public/do/PRAMain, select “Currently under Review—Open for Public Comments”, then search the list for the information collection by Title or “OMB Control No. 2900-0092.”

FOR FURTHER INFORMATION CONTACT: Program-Specific information: Nancy Kessinger, 202-632-8924, nancy.kessinger@va.gov.

VA PRA information: Maribel Aponte, 202-461-8900, vacopaperworkreduact@va.gov.

SUPPLEMENTARY INFORMATION:

Title: VA Form 28-1902w, Information for Veteran Readiness and Employment Entitlement Determination.

OMB Control Number: 2900-0092 www.reginfo.gov/public/do/PRASearch.

Type of Review: Revision of a currently approved collection.

Abstract: The VA Form 28-1902w, Information for Veteran Readiness and Employment Entitlement Determination is used by the Vocational Rehabilitation Counselor (VRC) with the Veteran or Service member during the comprehensive initial evaluation after the VA receives an application for Veteran Readiness and Employment benefits and has determined the claimant is eligible to apply for chapter 31 under title 38 U.S.C. 3104(a) and 38 CFR 21.50. Use of the VA Form 28-1902w will allow the VA counselor to use the form to collect the information during the initial evaluation. The information is unique to each Veteran and must be collected to assist with making an entitlement determination during the initial evaluation or the counselor would not have enough information to properly evaluate the Veteran's circumstances. The information is collected only once. Information for Veteran Readiness and Employment Entitlement Determination takes approximately 45 minutes to complete.

An agency may not conduct or sponsor, and a person is not required to respond to a collection of information unless it displays a currently valid OMB control number. The Federal Register Notice with a 60-day comment period soliciting comments on this collection of information was published at 89 FR 54962, July 2, 2024.

Affected Public: Individuals or Households.

Estimated Annual Burden: 48,097 hours.

Estimated Average Burden per Respondent: 45 minutes.

Frequency of Response: Once.

Estimated Number of Respondents: 64,129.

Authority: 44 U.S.C. 3501 et seq.

Maribel Aponte,
VA PRA Clearance Officer, Office of Enterprise and Integration, Data Governance Analytics, Department of Veterans Affairs.

[FR Doc. 2024-20302 Filed 9-9-24; 8:45 am]

BILLING CODE 8320-01-P